DEPARTMENT OF HOMELAND SECURITY

Federal Emergency Management Agency

44 CFR Part 64

[Docket ID FEMA-2008-0020; Internal Agency Docket No. FEMA-8089]

Suspension of Community Eligibility

AGENCY: Federal Emergency Management Agency, DHS.

ACTION: Final rule.

SUMMARY: This rule identifies communities, where the sale of flood insurance has been authorized under the National Flood Insurance Program (NFIP), that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street, SW., Washington, DC 20472, (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq.; unless an appropriate public body adopts adequate floodplain management measures with effective enforcement measures. The communities listed in this document no longer meet that statutory requirement for compliance with program regulations, 44 CFR part 59. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

In addition, FEMA has identified the Special Flood Hazard Areas (SFHAs) in these communities by publishing a Flood Insurance Rate Map (FIRM). The date of the FIRM, if one has been published, is indicated in the fourth column of the table. No direct Federal financial assistance (except assistance pursuant to the Robert T. Stafford Disaster Relief and Emergency Assistance Act not in connection with a flood) may legally be provided for construction or acquisition of buildings in identified SFHAs for communities not participating in the NFIP and identified for more than a year, on FEMA's initial flood insurance map of the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region III
Virginia:
Frederick County, Unincorporated Areas | 510063 | November 5, 1973, Emerg; July 17, 1978, Reg; September 2, 2009, Susp. | Sept. 2, 2009 | Sept. 2, 2009
Middletown, Town of, Frederick County | 510274 | February 24, 1975, Emerg; August 3, 1984, Reg; September 2, 2009, Susp. | ......do* | Do.
Norfolk, City of, Independent City County | 510104 | August 15, 1973, Emerg; August 1, 1979, Reg; September 2, 2009, Susp. | ......do | Do.
Stephens City, Town of, Frederick County | 510064 | June 17, 1975, Emerg; September 10, 1984, Reg; September 2, 2009, Susp. | ......do | Do.
Winchester, City of, Independent City County | 510173 | September 6, 1974, Emerg; November 15, 1978, Reg; September 2, 2009, Susp. | ......do | Do.
West Virginia:
Bayard, Town of, Grant County | 540240 | October 3, 1975, Emerg; August 10, 1979, Reg; September 2, 2009, Susp. | ......do | Do.
Hardy County, Unincorporated Areas | 540051 | May 16, 1978, Emerg; June 19, 1985, Reg; September 2, 2009, Susp. | ......do | Do.
Moorefield, Town of, Hardy County | 540052 | May 12, 1975, Emerg; July 1, 1987, Reg; September 2, 2009, Susp. | ......do | Do.
Petersburg, Town of, Grant County | 540039 | April 18, 1975, Emerg; June 18, 1987, Reg; September 2, 2009, Susp. | ......do | Do.
Wardensville, Town of, Hardy County | 540245 | April 17, 1975, Emerg; August 1, 1987, Reg; September 2, 2009, Susp. | ......do | Do.
Region IV
Georgia:
Arlington, City of, Calhoun, Early County | 130026 | November 3, 1975, Emerg; June 3, 1986, Reg; September 2, 2009, Susp. | ......do | Do.
Brooks County, Unincorporated Areas | 130281 | May 3, 1982, Emerg; May 3, 1982, Reg; September 2, 2009, Susp. | ......do | Do.
Calhoun County, Unincorporated Areas | 130571 | August 10, 1999, Emerg; NA, Reg; September 2, 2009, Susp. | ......do | Do.
Dawson, City of, Terrell County | 130509 | September 27, 1994, Emerg; NA, Reg; September 2, 2009, Susp. | ......do | Do.
Early County, Unincorporated Areas | 130499 | February 28, 1991, Emerg; August 2, 1995, Reg; September 2, 2009, Susp. | ......do | Do.
Edison, City of, Calhoun County | 130085 | September 14, 2007, Emerg; NA, Reg; September 2, 2009, Susp. | ......do | Do.
Lee County, Unincorporated Areas | 130122 | May 1, 1975, Emerg; May 15, 1991, Reg; September 2, 2009, Susp. | ......do | Do.
Leesburg, City of, Lee County | 130348 | March 3, 1976, Emerg; June 17, 1986, Reg; September 2, 2009, Susp. | ......do | Do.
North High Shoals, Town of, Oconee County | 130368 | October 28, 1983, Emerg; September 1, 1986, Reg; September 2, 2009, Susp. | ......do | Do.
Oconee County, Unincorporated Areas | 130453 | October 16, 1975, Emerg; July 17, 1989, Reg; September 2, 2009, Susp. | ......do | Do.
Quitman, City of, Brooks County | 130015 | December 26, 1973, Emerg; April 1, 1982, Reg; September 2, 2009, Susp. | ......do | Do.
Reynolds, Town of, Taylor County | 130527 | NA, Emerg; June 19, 2003, Reg; September 2, 2009, Susp. | ......do | Do.
Smithville, City of, Lee County | 130349 | January 18, 1983, Emerg; June 4, 1987, Reg; September 2, 2009, Susp. | ......do | Do.
Taylor County, Unincorporated Areas | 130522 | NA, Emerg; February 13, 1997, Reg; September 2, 2009, Susp. | ......do | Do.
Terrell County, Unincorporated Areas | 130400 | February 13, 1997, Emerg; NA, Reg; September 2, 2009, Susp. | ......do | Do.
Watkinsville, City of, Oconee County | 130369 | March 18, 1976, Emerg; August 19, 1986, Reg; September 2, 2009, Susp. | ......do | Do.
Kentucky:
McCreary County, Unincorporated Areas | 210343 | November 19, 1996, Emerg; NA, Reg; September 2, 2009, Susp. | ......do | Do.
Monticello, City of, Wayne County | 210221 | July 2, 1975, Emerg; September 18, 1985, Reg; September 2, 2009, Susp. | ......do | Do.
Morganfield, City of, Union County | 210216 | July 23, 1975, Emerg; September 1, 1986, Reg; September 2, 2009, Susp. | ......do | Do.
Shelby County, Unincorporated Areas | 210209 | August 23, 1996, Emerg; September 1, 2001, Reg; September 2, 2009, Susp. | ......do | Do.
Shelbyville, City of, Shelby County | 210376 | June 9, 1997, Emerg; NA, Reg; September 2, 2009, Susp. | ......do | Do.
Sturgis, City of, Union County | 210217 | April 8, 1975, Emerg; September 1, 1986, Reg; September 2, 2009, Susp. | ......do | Do.
Union County, Unincorporated Areas | 210301 | December 21, 2005, Emerg; NA, Reg; September 2, 2009, Susp. | ......do | Do.
Uniontown, Town of, Union County | 210218 | May 23, 1997, Emerg; April 1, 1998, Reg; September 2, 2009, Susp. | ......do | Do.
North Carolina:
Alleghany County, Unincorporated Areas | 370004 | December 23, 2002, Emerg; February 1, 2004, Reg; September 2, 2009, Susp. | ......do | Do.
Sparta, Town of, Alleghany County | 370005 | April 27, 1977, Emerg; July 3, 1986, Reg; September 2, 2009, Susp. | ......do | Do.
Region VI
Texas:
Bulverde, City of, Comal County | 481681 | NA, Emerg; March 24, 1998, Reg; September 2, 2009, Susp. | ......do | Do.
Comal County, Unincorporated Areas | 485463 | March 5, 1971, Emerg; November 9, 1973, Reg; September 2, 2009, Susp. | ......do | Do.
New Braunfels, City of, Comal County | 485493 | December 4, 1970, Emerg; December 1, 1972, Reg; September 2, 2009, Susp. | ......do | Do.
Region VII
Kansas:
Great Bend, City of, Barton County | 200019 | February 24, 1977, Emerg; May 16, 1983, Reg; September 2, 2009, Susp. | ......do | Do.
Hoisington, City of, Barton County | 200020 | February 21, 1975, Emerg; February 5, 1986, Reg; September 2, 2009, Susp. | ......do | Do.
Pawnee Rock, City of, Barton County | 200021 | May 10, 1976, Emerg; January 14, 1977, Reg; September 2, 2009, Susp. | ......do | Do.
Region VIII
North Dakota:
Bottineau, City of, Bottineau County | 380007 | July 1, 1974, Emerg; September 28, 1979, Reg; September 2, 2009, Susp. | ......do | Do.
Haram, Township of, Bottineau County | 380673 | May 16, 1983, Emerg; January 2, 1987, Reg; September 2, 2009, Susp. | ......do | Do.
Lansford, City of, Bottineau County | 380184 | February 5, 1979, Emerg; August 12, 1980, Reg; September 2, 2009, Susp. | ......do | Do.
Lansford, Township of, Bottineau County | 380675 | June 1, 1983, Emerg; August 19, 1987, Reg; September 2, 2009, Susp. | ......do | Do.
Newborg, Township of, Bottineau County | 380668 | April 5, 1983, Emerg; January 16, 1987, Reg; September 2, 2009, Susp. | ......do | Do.
Souris, City of, Bottineau County | 380010 | August 12, 1977, Emerg; March 18, 1986, Reg; September 2, 2009, Susp. | ......do | Do.
Willow City, City of, Bottineau County | 380011 | May 27, 1976, Emerg; September 28, 1979, Reg; September 2, 2009, Susp. | ......do | Do.
South Dakota:
Baltic, Town of, Minnehaha County | 460058 | January 17, 1980, Emerg; November 19, 1980, Reg; September 2, 2009, Susp. | ......do | Do.
Brandon, City of, Minnehaha County | 460296 | February 9, 1977, Emerg; July 10, 1979, Reg; September 2, 2009, Susp. | ......do | Do.
Dell Rapids, City of, Minnehaha County | 460059 | December 17, 1974, Emerg; August 15, 1980, Reg; September 2, 2009, Susp. | ......do | Do.
Hanson County, Unincorporated Areas | 460270 | February 26, 1997, Emerg; July 1, 1998, Reg; September 2, 2009, Susp. | ......do | Do.
Hutchinson County, Unincorporated Areas | 460041 | June 27, 1986, Emerg; April 1, 1987, Reg; September 2, 2009, Susp. | ......do | Do.
Lake County, Unincorporated Areas | 460276 | March 20, 1979, Emerg; August 5, 1986, Reg; September 2, 2009, Susp. | ......do | Do.
Madison, City of, Lake County | 460044 | May 15, 1975, Emerg; July 5, 1982, Reg; September 2, 2009, Susp. | ......do | Do.
Menno, City of, Hutchinson County | 460199 | July 28, 1975, Emerg; November 15, 1985, Reg; September 2, 2009, Susp. | ......do | Do.
Minnehaha County, Unincorporated Areas | 460057 | November 11, 1974, Emerg; September 5, 1979, Reg; September 2, 2009, Susp. | ......do | Do.
Parkston, City of, Hutchinson County | 460042 | June 27, 1975, Emerg; November 15, 1985, Reg; September 2, 2009, Susp. | ......do | Do.
Sioux Falls, City of, Minnehaha County | 460060 | April 12, 1974, Emerg; January 17, 1979, Reg; September 2, 2009, Susp. | ......do | Do.
Valley Springs, City of, Minnehaha County | 460221 | April 3, 1978, Emerg; July 16, 1980, Reg; September 2, 2009, Susp. | ......do | Do.
*......do = Ditto.

Code for reading third column: Emerg.—Emergency; Reg.—Regular; Susp.—Suspension.

Dated: August 24, 2009.
Deborah Ingram,
Acting Deputy Assistant Administrator for Mitigation, Mitigation Directorate, Department of Homeland Security, Federal Emergency Management Agency.

[FR Doc. E9-21024 Filed 8-31-09; 8:45 am]

BILLING CODE 9110-12-P